DEPARTMENT OF HEALTH AND HUMAN SERVICES

Centers for Disease Control and Prevention

[Program Announcement 01166]

Division of International Health/Global AIDS Program; Strengthening Masters of Public Health Program in Zimbabwe; Notice of Availability of Funds

A. Purpose

The Centers for Disease Control and Prevention (CDC) announces the availability of fiscal year (FY) 2001 funds for a cooperative agreement program with the University of Zimbabwe, Department of Community Medicine (UZ/DCM) to strengthen the Masters of Public Health (MPH) Program and to mobilize MPH faculty and students to more comprehensively address the HIV/AIDS (Human Immunodeficiency Virus/Acquired Immune Deficiency Syndrome) epidemic in Zimbabwe. This program addresses the “Healthy People 2010” focus area Public Health Infrastructure.

The objectives of this program are: (1) Development and implementation of a plan to increase capacity to train applied epidemiologists in MPH and related programs, and (2) to create a focus for monitoring and evaluation of response to the HIV/AIDS epidemic within the University, and to increase the quality and quantity of teaching, program evaluation projects and support services to the Ministry of Health and Child Welfare (MOHCW) and the National AIDS Council (NAC), and related HIV/AIDS initiatives within the University. The objectives are intended to be mutually reinforcing, with the resources allocated for HIV/AIDS monitoring and evaluation efforts providing training and related professional opportunities for students and faculty, and the expanded student and faculty base contributing to the expanded human resources needed for an effective response to HIV/AIDS in Zimbabwe and in the region.

The increased capacity of the MPH training program would enhance the Zimbabwe-CDC (ZimCDC) AIDS Project's vision of “Capacity building and technology transfer focused on public sector human resources” and the Division of International Health/EPO's mission of “Working with partners to strengthen capacity of countries around the world to improve public health”. This would be accomplished through a collaborative project between the ZimCDC, the UZ/DCM, and the Division of International Health (DIH), Epidemiology Program Office. The UZ MPH Program will be a cornerstone of the capacity building vision in the region. Through a cooperative agreement, CDC will provide core support to the UZ/DCM to increase the size of the training program in applied epidemiology and management for national personnel, and support related measures to simultaneously train district level personnel. CDC will also provide core support to an UZ/DCM-based Center for Monitoring and Evaluating the Response to HIV/AIDS.

B. Eligible Applicants

Assistance will be provided only to the University of Zimbabwe, with the assistance targeted to the University's School of Medicine, Department of Community Medicine. No other applications are solicited.

The UZ/DCM MPH program is an applied epidemiology training program founded in 1993 through a collaborative effort between the MOHCW and the UZ/DCM. Currently, with 10 trainees per year, the program is supported by the Rockefeller Foundation and the MOHCW. In the eight years of its operation, the MPH program has trained approximately 40 personnel and currently has 15 trainees in their two-year course. It has recently been tasked to train up to 300 district health team members in health information for district management over 2 years leading to a Certificate in Health Information for District Management (CHIDM).

The UZ/DCM MPH program is the only MPH program in the country. The purpose of this agreement is to build upon the success of the program and allow it to expand without compromising the quality of the training.

There is urgency to putting this award in place. Zimbabwe is among the countries in the world most affected by HIV/AIDS: HIV prevalence is estimated to be at least 27 percent, there has been 10-fold increase in the number of TB cases, and up to 35 percent of the children may be orphaned by AIDS at the end of this decade. At the same time, the public health response to the epidemic in Zimbabwe is inadequate due in part to insufficient manpower in the Zimbabwe public health system. This training program will enable Zimbabwe to develop and place epidemiologists who are better equipped to address epidemics.

C. Availability of Funds

Approximately $500,000 is available in FY 2001 to fund one award. It is expected that this level of funding will be available each year. It is expected that the awards will begin on or about September 2001 and will be made for a 12-month budget period within a project period of up to three years. Funding estimates may change, based on performance and the availability of funds.

Continuation awards within an approved project period will be made on the basis of satisfactory progress as evidenced by required reports and the availability of funds.

D. Where To Obtain Additional Information

This and other CDC announcements can be found on the CDC home page Internet address http://www.cdc.gov Click on “Funding” then “Grants and Cooperative Agreements.” To obtain additional business management information, contact:Mattie Jackson, Grants Management Specialist,Grants Management Branch,Procurement and Grants Office, 2920 Brandywine Road, Room 3000,Atlanta, GA 30341-4146,Telephone: (770) 488-2696,Email: mij3@cdc.gov.

For program technical assistance, contact:

Dr. Peter Nsuguba, Epidemiologist,Epidemiology Program Office,Division of International Health,Centers for Disease Control and Prevention, 2877 Brandywine Road, Room 4507,Atlanta, GA 30314-4146,Telephone: (770) 488-8334,Email: pcn0@cdc.gov

or

Mark Fussell,Zimbabwe-CDC AIDS Project Team, 38 Samora Machel Avenue, 2nd Floor,Harare, Zimbabwe,Office: 263-11-613194,Email: fussellm@aimcdc.co.zw.

Dated: July 16, 2001.
John L. Williams,
Director, Procurement and Grants Office, Centers for Disease Control and Prevention (CDC)

[FR Doc. 01-18157 Filed 7-19-01; 8:45 am]

BILLING CODE 4163-18-P